DEPARTMENT OF ENERGY

Federal Energy Regulatory Commission

[Project No. 2100-134 California]

California Department of Water Resources; Notice of Intent To Hold a Public Meeting To Discuss the Draft Environmental Impact Statement for the Oroville Facilities

October 11, 2006.

On September 29, 2006, the Commission staff delivered the Oroville Facilities Draft Environmental Impact Statement (draft EIS) to the Environmental Protection Agency and mailed it to resource and land management agencies, interested organizations, and individuals.

The draft EIS was noticed in the Federal Register on October 6, 2006 (71 FR 59106) and comments are due November 20, 2006. The draft EIS evaluates the environmental consequences and developmental benefits of issuing a new license for operating and maintaining the Oroville Facilities, located in Butte County, California. The project would occupy 2,000 acres of federal lands, including lands managed by the U.S. Department of Agriculture, Forest Service and the U.S. Bureau of Land Management. Besides evaluating the project as it now operates, the draft EIS evaluates the project with the Settlement Agreement and with staff-recommended measures.

The public meeting, which will be recorded by an official stenographer, is scheduled as follows.

Date: Wednesday, November 8, 2006.

Time: 6-9 p.m. (PST).

Place: State House Theater, 1489 Myers Street, Oroville, California 95965.

At the meeting, resource agency personnel and other interested persons will have the opportunity to provide oral and written comments and recommendations regarding the DEIS for the Commission's public record.

For further information, please contact Jim Fargo at e-mail address james.fargo@ferc.gov, or by telephone at (202) 502-6095.

Magalie R. Salas,
Secretary.

[FR Doc. E6-17206 Filed 10-16-06; 8:45 am]

BILLING CODE 6717-01-P